SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and one extension of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, DCRDP, Attn: Reports Clearance Officer, 107 Altmeyer Building, 6401 Security Blvd., Baltimore, MD 21235, Fax: 410-966-2830, Email address: OPLM.RCO@ssa.gov.

I. The information collections below are pending at SSA. SSA will submit them to OMB within 60 days from the date of this notice. To be sure we consider your comments, we must receive them no later than May 29, 2012. Individuals can obtain copies of the collection instruments by calling the SSA Reports Clearance Officer at 410-965-8783 or by writing to the above email address.

1. Waiver of Right to Appear—Disability Hearing—20 CFR 404.913-404.914, 404.916(b)(5), 416.1413-416.1414, 416.1416(b)(5)—0960-0534. Claimants for Social Security disability payments or their representatives can use form SSA-773 to officially waive their right to appear at a disability hearing. The disability hearing officer uses the signed form as a basis for not holding a hearing, and for preparing a written decision on the claimant's request for disability payments based solely on the evidence of record. The respondents are claimants for disability payments under title II and title XVI of the Social Security Act (Act), or their representatives, who wish to waive their right to appear at a disability hearing.

Type of Request: Revision of an OMB-approved information collection.

Collection instrument | Number of respondents | Frequency of response | Averge burden per response (minutes) | Estimated total annual burden (hours)
SSA-773-U4 | 200 | 1 | 3 | 10

2. Request to Pay Civil Monetary Penalty by Installment Agreement—20 CFR 498—0960-0776. When SSA imposes a civil monetary penalty (CMP) for various fraudulent conduct related to SSA-administrated programs on individuals, those individuals may ask to pay the CMP through an installment agreement. For SSA to negotiate a monthly payment amount fair to both the individual and the agency, SSA needs financial information from the individual. The agency uses Form SSA-640 to obtain the information necessary to determine a repayment rate for individuals owing a CMP. The respondents are recipients of Social Security benefits and non-entitled individuals who must repay a CMP to the agency and want to do so using an installment plan.

Type of Request: Revision of an OMB-approved information collection.

Collection instrument | Number of responses | Frequency of response | Average burden per response (minutes) | Estimated total annual burden (hours)
SSA-640 | 400 | 1 | 120 | 800

II. SSA submitted the information collections below to OMB for clearance. Your comments regarding the information collections would be most useful if OMB and SSA receive them within 30 days from the date of this publication. To be sure we consider your comments, we must receive them no later than April 30, 2012. Individuals can obtain copies of the OMB clearance packages by calling the SSA Reports Clearance Officer at 410-965-8783 or by writing to the above email address.

1. Application for Parent's Insurance Benefits—20 CFR 404.370-404.374, 20 CFR 404.601-404.603—0960-0012. Section 202(h) of the Act establishes the conditions of eligibility a claimant must meet to receive monthly benefits as a parent of a deceased worker. SSA uses information from Form SSA-7-F6 to determine if the claimant meets the eligibility and application criteria. The respondents are applicants for, and recipients of, Social Security Old Age, Survivors, and Disability Insurance benefits.

Type of Request: Revision of an OMB-approved information collection.

Collection method | Number of respondents | Frequency of response | Average burden per response (minutes) | Estimated total annual burden (hours)
Modernized Claims Systems (MCS) | 153 | 1 | 15 | 38
MCS/Signature Proxy | 158 | 1 | 14 | 37
Paper SSA-7-F6 | 4 | 1 | 15 | 1
Total | 315 |  |  | 76

2. Application for Supplemental Security Income—20 CFR 416.305-416.335, Subpart C—0960-0444. SSA collects information on Form SSA-8001-BK to determine an applicant's eligibility for Supplemental Security Income (SSI) and the SSI payment amounts. SSA employees also collect this information during interviews with members of the public who wish to file for SSI. SSA uses the information for two purposes: (1) to deny SSI for non-medical reasons when information the applicant provides results in ineligibility; or (2) to establish a disability claim, but defer the complete development of non-medical issues until SSA confirms the disability. The respondents are applicants for SSI.

Type of Request: Revision of an OMB-approved information collection.

Collection method | Number of respondents | Frequency of response | Average burden per response (minutes) | Estimated total annual burden (hours)
Modernized SSI Claims System (MSSICS) | 1,006,400 | 1 | 15 | 251,600
MSSICS/Signature Proxy | 326,400 | 1 | 14 | 76,160
Paper | 27,200 | 1 | 18 | 8,160
Totals | 1,360,000 |  |  | 335,920

3. Permanent Residence in the United States Under Color of Law (PRUCOL)—20 CFR 416.1615 and 416.1618—0960-0451. As per 20 CFR 416.1415 and 416.1618 of the Code of Federal Regulations, PRUCOL aliens must present evidence of their alien status when they apply for SSI payments, and periodically thereafter as part of the eligibility determination process for SSI. SSA verifies the validity of the PRUCOL evidence for grandfathered nonqualified aliens with the Department of Homeland Security (DHS), and determines if the individual qualifies for PRUCOL status based on the DHS response. Without this information, SSA is unable to determine whether the individual is eligible for SSI payments. Respondents are qualified and unqualified aliens who apply for SSI payments under PRUCOL.

Type of Request: Extension of an OMB-approved information collection.

Collection method | Number of respondents | Frequency of response | Average burden per response (minutes) | Estimated total annual burden (hours)
Personal or Telephone Interview | 1,300 | 1 | 5 | 108

Dated: March 27, 2012.
Faye Lipsky,
Reports Clearance Officer, Office of Regulations and Reports Clearance, Social Security Administration.

[FR Doc. 2012-7712 Filed 3-29-12; 8:45 am]

BILLING CODE 4191-02-P